DEPARTMENT OF THE TREASURY

Fiscal Service

Treasury Tax and Loan Program Enhancements

AGENCY: Financial Management Service, Fiscal Service, Department of the Treasury.

ACTION: Notice: announcement of delay.

SUMMARY: This announces a delay in the availability of new applications in the Treasury Tax and Loan Program.

DATES: We will announce the new implementation date once established.

FOR FURTHER INFORMATION CONTACT: Walt Henderson, Senior Financial Program Specialist on (202) 874-6705 or walt.henderson@fms.treas.gov; Mary Bailey, Financial Program Specialist, at (202) 874-6749 or mary.bailey@fms.treas.gov; Adam Martin, Financial Program Specialist, at (202) 874-6881 or adam.martin@fms.treas.gov; Cynthia L. Johnson, Director, Cash Management Policy and Planning Division, at (202) 874-6590 or cindy.johnson@fms.treas.gov; or Ellen Neubauer, Senior Attorney, (202) 874-6680 or ellen.neubauer@fms.treas.gov.

SUPPLEMENTARY INFORMATION:

A. Background

On May 24, 2000, the Department of the Treasury (Treasury) announced two new applications in the Treasury Tax and Loan (TT&L) program. These applications—the Treasury Investment Program (TIP) and the Paper Tax System (PATAX)—were scheduled to be available on July 10, 2000. This announcement was published to coincide with the publication of new regulations pertaining to daylight overdrafts by the Board of Governors of the Federal Reserve (Federal Reserve).

B. Reasons for Delaying the Implementation of the New TT&L Applications

Since the publication date of the notice of the new TT&L applications, the Treasury and the Federal Reserve determined the availability date for these applications, July 10, 2000, must be revised. The Treasury and the Federal Reserve made a joint decision to delay implementation of the TIP and PATAX applications to allow for further testing of an internal cash forecasting application that interfaces with TIP. We will announce the new implementation date once established. Until the new implementation date, all TT&L processes will operate as they currently do. While TIP and PATAX have been thoroughly tested and stand ready for implementation, the extra time will allow the Treasury and the Federal Reserve to ensure that interfaces between these systems and other systems are functioning properly.

Additional Information

For more information on the new TT&L applications and the revised implementation date, please visit www.frbservices.org. Financial institutions may also visit www.fm.treas.gov/regs.html for regulations and guidance pertaining to TT&L, EFTPS, and collateral. Financial institutions with questions on the new TT&L applications should contact the TT&L National Customer Service Area on 1-888-568-7343.

Dated: June 28, 2000.
Bettsy H. Lane,
Assistant Commission, Federal Finance, Financial Management Service.

[FR Doc. 00-16831 Filed 7-3-00; 8:45 am]

BILLING CODE 4810-35-M